DEPARTMENT OF ENERGY

Federal Energy Regulatory Commission

Combined Notice of Filings #1

Take notice that the Commission received the following exempt wholesale generator filings:

Docket Numbers: EG21-221-000.

Applicants: Montague Solar, LLC.

Description: Notice of Self-Certification of EG or FC of Montague Solar, LLC of Exempt Wholesale Generator Status.

Filed Date: 8/19/21.

Accession Number: 20210819-5080.

Comment Date: 5 p.m. ET 9/9/21.

Docket Numbers: EG21-222-000.

Applicants: Fairbanks Solar Holdings LLC.

Description: Notice of Self-Certification of Exempt Wholesale Generator Status of Fairbanks Solar Holdings LLC.

Filed Date: 8/19/21.

Accession Number: 20210819-5126.

Comment Date: 5 p.m. ET 9/9/21.

Docket Numbers: EG21-223-000.

Applicants: Fairbanks Solar Energy Center LLC.

Description: Notice of Self-Certification of Exempt Wholesale Generator Status of Fairbanks Solar Energy Center LLC.

Filed Date: 8/19/21.

Accession Number: 20210819-5127.

Comment Date: 5 p.m. ET 9/9/21.

Take notice that the Commission received the following electric rate filings:

Docket Numbers: ER21-2392-001.

Applicants: Power Authority of the State of New York, New York Independent System Operator, Inc.

Description: Tariff Amendment: Power Authority of the State of New York submits tariff filing per 35.17(b): Amendment filing of NYPA Cost Containment Mechanism for Segment A to be effective 9/15/2021.

Filed Date: 8/19/21.

Accession Number: 20210819-5103.

Comment Date: 5 p.m. ET 8/26/21.

Docket Numbers: ER21-2632-000.

Applicants: ISO New England Inc.

Description: ISO New England Inc. submits Second Quarter 2021 Capital Budget Report.

Filed Date: 8/9/21.

Accession Number: 20210809-5232.

Comment Date: 5 p.m. ET 8/30/21.

Docket Numbers: ER21-2712-000.

Applicants: Heartland Generation Ltd.

Description: Baseline eTariff Filing: Baseline Tariff to be effective 10/19/2021.

Filed Date: 8/19/21.

Accession Number: 20210819-5052.

Comment Date: 5 p.m. ET 9/9/21.

Docket Numbers: ER21-2713-000.

Applicants: SE Athos I, LLC.

Description: Baseline eTariff Filing: Application for Market-Based Rate Authorization and Request for Waivers to be effective 8/20/2021.

Filed Date: 8/19/21.

Accession Number: 20210819-5081.

Comment Date: 5 p.m. ET 9/9/21.

Docket Numbers: ER21-2714-000.

Applicants: SE Athos II, LLC.

Description: Baseline eTariff Filing: Application for Market-Based Rate Authorization and Request for Waivers to be effective 8/20/2021.

Filed Date: 8/19/21.

Accession Number: 20210819-5082.

Comment Date: 5 p.m. ET 9/9/21.

Docket Numbers: ER21-2715-000.

Applicants: Fairbanks Solar Energy Center LLC.

Description: Baseline eTariff Filing: Application for Market-Based Rate Authorization to be effective 10/19/2021.

Filed Date: 8/19/21.

Accession Number: 20210819-5121.

Comment Date: 5 p.m. ET 9/9/21.

Docket Numbers: ER21-2716-000.

Applicants: Fairbanks Solar Holdings LLC.

Description: Baseline eTariff Filing: Application for Market-Based Rate Authorization to be effective 10/19/2021.

Filed Date: 8/19/21.

Accession Number: 20210819-5122.

Comment Date: 5 p.m. ET 9/9/21.

Docket Numbers: ER21-2717-000.

Applicants: Midcontinent Independent System Operator, Inc.

Description: § 205(d) Rate Filing: 2021-08-19_Att X Generator Replacement Transfer Restriction Reform Filing to be effective 10/19/2021.

Filed Date: 8/19/21.

Accession Number: 20210819-5128.

Comment Date: 5 p.m. ET 9/9/21.

Docket Numbers: ER21-2719-000.

Applicants: NextEra Energy Seabrook, LLC.

Description: Baseline eTariff Filing: Engineering and Procurement Agreement Between NextEra Energy Seabrook and NECEC to be effective 8/20/2021.

Filed Date: 8/19/21.

Accession Number: 20210819-5129.

Comment Date: 5 p.m. ET 9/9/21.

Docket Numbers: ER21-2720-000.

Applicants: Midcontinent Independent System Operator, Inc.

Description: § 205(d) Rate Filing: 2021-08-19_Clarifying ineligibility of DIRs to provide online STR to be effective 12/7/2021.

Filed Date: 8/19/21.

Accession Number: 20210819-5135.

Comment Date: 5 p.m. ET 9/9/21.

Docket Numbers: ER21-2721-000.

Applicants: ITC Midwest LLC.

Description: § 205(d) Rate Filing: NSPM Lakefield Junction CIAC to be effective 8/20/2021.

Filed Date: 8/19/21.

Accession Number: 20210819-5150.

Comment Date: 5 p.m. ET 9/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 19, 2021.
Debbie-Anne A. Reese,
Deputy Secretary.

[FR Doc. 2021-18295 Filed 8-24-21; 8:45 am]

BILLING CODE 6717-01-P